DEPARTMENT OF COMMERCE

International Trade Administration

[A-533-889, A-489-837]

Certain Quartz Surface Products From India and the Republic of Turkey: Postponement of the Preliminary Determinations in the Less-Than-Fair-Value Investigations

AGENCY: Enforcement and Compliance, International Trade Administration, Department of Commerce.

DATES: Applicable October 1, 2019.

FOR FURTHER INFORMATION CONTACT: Keith Haynes or Jean Valdez at (202) 482-5139 or (202) 482-3855 (India), and Laurel LaCivita or Kyle Clahane at (202) 482-4243 or (202) 482-5449 (Republic of Turkey (Turkey)), AD/CVD Operations, Enforcement, and Compliance, International Trade Administration, U.S. Department of Commerce, 1401 Constitution Avenue NW, Washington, DC 20230.

SUPPLEMENTARY INFORMATION:

Background

On May 28, 2019, the Department of Commerce (Commerce) initiated less-than-fair-value (LTFV) investigations of imports of certain quartz surface products from India and Turkey.¹ Currently, the preliminary determinations are due no later than October 15, 2019.

¹ See Certain Quartz Surface Products from India and the Republic of Turkey: Initiation of Less-Than-Fair-Value Investigation, 84 FR 25529 (June 3, 2019).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.²

² See 19 CFR 351.205(e).

On September 16, 2019, the petitioner ³ submitted timely requests that Commerce postpone the preliminary determinations in these LTFV investigations.⁴ The petitioner stated that it requested postponement because Commerce was still gathering data and questionnaire responses from the foreign producers in these investigations, and additional time is necessary for interested parties to respond to further requests from Commerce.

³ The petitioner is Cambria Company LLC.

⁴ See Petitioner's Letters, “Quartz Surface Products from India: Request to Extend the Preliminary Determination,” and “Quartz Surface Products from the Republic of Turkey: Request to Extend the Preliminary Determination,” dated September 16, 2019.

For the reasons stated above, and because there is no compelling reason to deny the request, Commerce, in accordance with section 733(c)(1)(A) of the Act, is postponing the deadline for the preliminary determinations by 50 days. As a result, Commerce will issue its preliminary determinations in these investigations no later than December 4, 2019. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: September 25, 2019.
Jeffrey I. Kessler,
Assistant Secretary for Enforcement and Compliance.

[FR Doc. 2019-21289 Filed 9-30-19; 8:45 am]

BILLING CODE 3510-DS-P